DEPARTMENT OF TRANSPORTATION

Federal Aviation Administration

14 CFR Part 39

[Docket No. FAA-2012-1158; Directorate Identifier 2011-NM-232-AD]

RIN 2120-AA64

Airworthiness Directives; Airbus Airplanes

AGENCY: Federal Aviation Administration (FAA), DOT.

ACTION: Notice of proposed rulemaking (NPRM).

SUMMARY: We propose to supersede an existing airworthiness directive (AD) that applies to all Airbus Model A300 and A310 series airplanes; and Model A300 B4-600, B4-600R, and F4-600R series airplanes, and Model A300 C4-605R Variant F airplanes (collectively called A300-600 series airplanes). The existing AD currently requires revising the Airworthiness Limitations section of the Instructions for Continued Airworthiness to incorporate new and revised structural inspections and inspection intervals. Since we issued that AD, Airbus has revised certain ALI documents, which require more restrictive maintenance requirements and airworthiness limitations. This proposed AD would revise the maintenance program to incorporate the limitations section. We are proposing this AD to prevent fatigue cracking, damage, or corrosion in principal structural elements, which could result in reduced structural integrity of the airplane.

DATES: We must receive comments on this proposed AD by December 24, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-1158; Directorate Identifier 2011-NM-232-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On May 2, 2011, we issued AD 2011-10-17, Amendment 39-16698 (76 FR 27875, May 13, 2011). That AD required actions intended to address an unsafe condition on the products listed above.

Since we issued AD 2011-10-17, Amendment 39-16698 (76 FR 27875, May 13, 2011), Airbus has revised certain ALI documents, which require more restrictive maintenance requirements and airworthiness limitations. The European Aviation Safety Agency (EASA), which is the Technical Agent for the Member States of the European Community, has issued EASA Airworthiness Directive 2011-0198, dated October 19, 2011 (referred to after this as “the MCAI”), to correct an unsafe condition for the specified products. The MCAI states:

The airworthiness limitations applicable to the Damage Tolerant Airworthiness Limitation Items (DT ALIs) are currently listed in Airbus ALI Documents, which are referenced in the A300, A310 and A300-600 Airworthiness Limitations Section (ALS) Part 2.

Airbus have recently revised the A300-600 and A310 ALI Documents, and these issues have been approved by EASA. The Airbus A300-600 ALI Document issue 13 and temporary revision (TR) 13.1 and the A310 ALI document issue 08 introduce more restrictive maintenance requirements and airworthiness limitations, which have been identified as mandatory actions for continued airworthiness.

EASA AD 2009-0155 [which corresponds to FAA AD 2011-10-17, Amendment 39-16698 (76 FR 27875, May 13, 2011)] required compliance with the maintenance requirements and associated airworthiness limitations defined in the following documents:

—AIRBUS A300 ALI Document issue 04,

—AIRBUS A310 ALI Document issue 07, and

—AIRBUS A300-600 ALI Document issue 12.

For the reasons described, this EASA AD retains the requirements of EASA AD 2009-0155, which is superseded, and requires compliance with the airworthiness limitations defined in the Airbus A300-600 ALI Document issue 13 and TR13.1, and the A310 ALI document issue 08.

You may obtain further information by examining the MCAI in the AD docket.

Relevant Service Information

Airbus has issued the following service information. The actions described in this service information are intended to correct the unsafe condition identified in the MCAI.

• Airbus A310 Airworthiness Limitation Items Document, AI/SE-M2/95A.1309/07, Issue 8, dated October 2010 (for Model A310-203, -204, -221, -222, -304, -322, -324, and -325 airplanes).

• Airbus A300-600 Airworthiness Limitation Items Document, AI/SE-M2/95A.1310/07, Issue 13, dated October 2010 (Model A300 B4-601, B4-603, B4-620, B4-622, B4-605R, B4-622R, F4-605R, F4-622R, and C4-605R Variant F airplanes).

• Airbus Temporary Revision 13.1, dated February 2011, to the Airbus A300-600 Airworthiness Limitation Items Document, AI/SE-M2/95A.1310/07, Issue 13, dated October 2010 (for Model A300 B4-601, B4-603, B4-620, B4-622, B4-605R, B4-622R, F4-605R, F4-622R, and C4-605R Variant F airplanes).

FAA's Determination and Requirements of This Proposed AD

These products have been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

This proposed AD requires revisions to certain operator maintenance documents to include new actions (e.g., inspections). Compliance with these actions is required by section 91.403(c) of the Federal Aviation Regulations (14 CFR 91.403(c)). For airplanes that have been previously modified, altered, or repaired in the areas addressed by these inspections, an operator might not be able to accomplish the actions described in the revisions. In this situation, to comply with 14 CFR 91.403(c), the operator must request approval of an alternative method of compliance (AMOC) in accordance with the provisions of paragraph (u)(1) of this proposed AD. The request should include a description of changes to the required actions that will ensure the continued damage tolerance of the affected structure.

Costs of Compliance

Based on the service information, we estimate that this proposed AD would affect about 170 products of U.S. registry.

The actions that are required by AD 2011-10-17, Amendment 39-16698 (76 FR 27875, May 13, 2011), and retained in this proposed AD take about 1 work-hour per product, at an average labor rate of $85 per work hour. Based on these figures, the estimated cost of the currently required actions is $85 per product.

We estimate that it would take about 1 work-hour per product to comply with the new basic requirements of this proposed AD. The average labor rate is $85 per work-hour. Based on these figures, we estimate the cost of the proposed AD on U.S. operators to be $14,450, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-10-17, Amendment 39-16698 (76 FR 27875, May 13, 2011), and adding the following new AD:

Airbus: Docket No. FAA-2012-1158; Directorate Identifier 2011-NM-232-AD.

(a) Comments Due Date

We must receive comments by December 24, 2012.

(b) Affected ADs

This AD supersedes AD 2011-10-17, Amendment 39-16698 (76 FR 27875, May 13, 2011), which superseded AD 2007-04-11, Amendment 39-14943 (72 FR 8604, February 27, 2007); AD 2007-20-03, Amendment 39-15213 (72 FR 54536, September 26, 2007); and AD 2007-25-02, Amendment 39-15283 (72 FR 69612, December 10, 2007). AD 2007-04-11 superseded AD 96-13-11, Amendment 39-9679 (61 FR 35122, July 5, 1996).

(c) Applicability

This AD applies to all Airbus model airplanes identified in paragraphs (c)(1), (c)(2), and (c)(3) of this AD, certificated in any category.

(1) Model A300 B2-1A, B2-1C, B4-2C, B2K-3C, B4-103, B2-203, and B4-203 airplanes.

(2) Model A310-203, -204, -221, -222, -304, -322, -324, and -325 airplanes.

(3) Model A300 B4-601, B4-603, B4-620, B4-622, B4-605R, B4-622R, F4-605R, F4-622R, and C4-605R Variant F airplanes.

(d) Subject

Air Transport Association (ATA) of America Code 57: Wings.

(e) Reason

This AD was prompted by revisions of certain Airbus Airworthiness Limitation Items (ALI) documents, which require more restrictive maintenance requirements and airworthiness limitations. We are issuing this AD to prevent fatigue cracking, damage, or corrosion in principal structural elements, which could result in reduced structural integrity of the airplane.

(f) Compliance

You are responsible for having the actions required by this AD performed within the compliance times specified, unless the actions have already been done.

(g) Retained Maintenance Program Revision

This paragraph restates the requirements of paragraph (g) of AD 2011-10-17, Amendment 39-16698 (76 FR 27875, May 13, 2011). Within one year after August 9, 1996 (the effective date of AD 96-13-11, Amendment 39-9679 (61 FR 35122, July 5, 1996)), replace the revision of the maintenance program with the inspections, inspection intervals, repairs, and replacements defined in Airbus Industrie A300 Supplemental Structural Inspection Document, Revision 2, dated June 1994. Accomplish the actions specified in the service bulletins identified in Section 6, “SB Reference List,” in Airbus Industrie A300 Supplemental Structural Inspection Document, Revision 2, dated June 1994, at the times specified in those service bulletins. The actions are to be accomplished in accordance with those service bulletins. Accomplishing the initial ALI tasks required by paragraph (r) of this AD terminates the actions required by this paragraph.

(1) For airplanes that have exceeded the threshold specified in any of the service bulletins identified in Section 6, “SB Reference List,” in Airbus Industrie A300 Supplemental Structural Inspection Document, Revision 2, dated June 1994: Accomplish the actions specified in those service bulletins within the grace period specified in those service bulletins. The grace period is to be measured from August 9, 1996 (the effective date of AD 96-13-11, Amendment 39-9679 (61 FR 35122, July 5, 1996)).

(2) For airplanes that have exceeded the threshold specified in any of the service bulletins identified in Section 6, “SB Reference List,” in Airbus Industrie A300 Supplemental Structural Inspection Document, Revision 2, dated June 1994, and a grace period is not specified in that service bulletin: Accomplish the actions specified in that service bulletin within 1,500 flight cycles after August 9, 1996 (the effective date of AD 96-13-11, Amendment 39-9679 (61 FR 35122, July 5, 1996)).

(h) Retained Revision of the Maintenance Inspection Program

This paragraph restates the requirements of paragraphs (h) and (i) of AD 2011-10-17, Amendment 39-16698 (76 FR 27875, May 13, 2011).

(1) For airplanes identified in paragraph (c)(1) of this AD: Within 12 months after April 3, 2007 (the effective date of AD 2007-04-11, Amendment 39-14943 (72 FR 8604, February 27, 2007), replace the revision of the maintenance program required by paragraph (g) of this AD with the supplemental structural inspections, inspection intervals, and repairs defined in Airbus A300 Airworthiness Limitation Items Document SEM2/95A.1090/05, Issue 3, dated September 2005, as revised by Airbus A300 Temporary Revision (TR) 3.1, dated April 2006. Accomplish the actions specified in Airbus A300 Airworthiness Limitation Items Document SEM2/95A.1090/05, Issue 3, dated September 2005, as revised by Airbus A300 TR 3.1, dated April 2006, at the times specified in that ALI, except as provided by paragraph (h)(2) of this AD. The actions must be accomplished in accordance with Airbus A300 Airworthiness Limitation Items Document SEM2/95A.1090/05, Issue 3, dated September 2005, as revised by Airbus A300 TR 3.1, dated April 2006. Accomplishing the initial ALI tasks required by paragraph (r) of this AD terminates the actions required by this paragraph.

(2) For airplanes identified in paragraph (c)(1) of this AD that have exceeded the threshold or intervals specified in the Airbus A300 Airworthiness Limitation Items Document SEM2/95A.1090/05, Issue 3, dated September 2005, for the application tolerance on the first interval for new and revised requirements and have exceeded 50 percent of the intervals specified in sections D and E of Airbus A300 Airworthiness Limitation Items Document SEM2/95A.1090/05, Issue 3, dated September 2005: Do the actions within 6 months after April 3, 2007 (the effective date of AD 2007-04-11, Amendment 39-14943 (72 FR 8604, February 27, 2007)).

(i) Retained Corrective Actions

This paragraph restates the requirements of paragraph (j) of AD 2011-10-17, Amendment 39-16698 (76 FR 27875, May 13, 2011). Damaged, cracked, or corroded structure detected during any inspection done in accordance with the Airbus A300 Airworthiness Limitation Items Document SEM2/95A.1090/05, Issue 3, dated September 2005, must be repaired, before further flight, in accordance with Airbus A300 Airworthiness Limitation Items Document SEM2/95A.1090/05, Issue 3, dated September 2005, as revised by Airbus A300 TR 3.1, dated April 2006, except as provided by paragraph (j) of this AD; or other data meeting the certification basis of the airplane which is approved by the Manager, International Branch, ANM-116, Transport Airplane Directorate, FAA; or by the European Aviation Safety Agency (EASA) (or its delegated agent).

(j) Retained Exception

This paragraph restates the requirements of paragraph (k) of AD 2011-10-17, Amendment 39-16698 (76 FR 27875, May 13, 2011). Where the Airbus A300 Airworthiness Limitation Items Document SEM2/95A.1090/05, Issue 3, dated September 2005, specifies contacting Airbus for appropriate action: Before further flight, repair the damaged, cracked, or corroded structure using a method approved by either the Manager, International Branch, ANM-116; or the EASA (or its delegated agent).

(k) Retained No Fleet Sampling

This paragraph restates the requirements of paragraph (l) of AD 2011-10-17, Amendment 39-16698 (76 FR 27875, May 13, 2011). Although Airbus A300 Airworthiness Limitation Items Document SEM2/95A.1090/05, Issue 3, dated September 2005, specifies to do a “Sampling Concept” in section B, this AD prohibits the use of such a sampling program and requires all affected airplanes of the fleet to be inspected.

(l) Retained No Reporting

This paragraph restates the exception specified in paragraph (m) of AD 2011-10-17, Amendment 39-16698 (76 FR 27875, May 13, 2011). Although Airbus A300 Airworthiness Limitation Items Document SEM2/95A.1090/05, Issue 3, dated September 2005, specifies to submit certain information to the manufacturer, this AD does not include that requirement.

(m) Retained Actions and Compliance

This paragraph restates the requirements of paragraph (n) of AD 2011-10-17, Amendment 39-16698 (76 FR 27875, May 13, 2011). For airplanes identified in paragraph (c)(3) of this AD: Within 3 months after October 31, 2007 (the effective date AD 2007-20-03, Amendment 39-15213 (72 FR 54536, September 26, 2007)), revise the Airworthiness Limitations Section (ALS) of the Instructions for Continued Airworthiness (ICA) to incorporate Airbus A300-600 Airworthiness Limitation Items Document AI/SE-M2/95A.0502/06, Issue 11, dated April 2006. The tolerance (grace period) for compliance (specified in paragraph 2 of Section B—Program Rules) with Airbus A300-600 Airworthiness Limitation Items Document AI/SE-M2/95A.0502/06, Issue 11, dated April 2006, is within 2,000 flight cycles after October 31, 2007 (the effective date AD 2007-20-03), provided that none of the following is exceeded. Accomplishing the initial ALI tasks required by paragraph (r) of this AD terminates the actions required by this paragraph.

(1) Thresholds or intervals in the operator's current approved maintenance schedule that are taken from a previous ALI issue, if existing, and are higher than or equal to those given in Airbus A300-600 Airworthiness Limitation Items Document AI/SE-M2/95A.0502/06, Issue 11, dated April 2006.

(2) 8 months after October 31, 2007 (the effective date AD 2007-20-03, Amendment 39-15213 (72 FR 54536, September 26, 2007)).

(3) 50 percent of the intervals given in Airbus A300-600 Airworthiness Limitation Items Document AI/SE-M2/95A.0502/06, Issue 11, dated April 2006.

(4) Any application tolerance given in the task description of Airbus A300-600 Airworthiness Limitation Items Document AI/SE-M2/95A.0502/06, Issue 11, dated April 2006.

(n) Retained Revision of the ALS of the ICA

This paragraph restates the requirements of paragraph (o) of AD 2011-10-17, Amendment 39-16698 (76 FR 27875, May 13, 2011). For airplanes identified in paragraph (c)(2) of this AD: Within 3 months after January 14, 2008 (the effective date of AD 2007-25-02, Amendment 39-15283 (72 FR 69612, December 10, 2007)), do the actions specified in paragraphs (n)(1) and (n)(2) of this AD. Accomplishing the initial ALI tasks required by paragraph (r) of this AD terminates the actions required by this paragraph.

(1) Revise the ALS of the ICA to incorporate the structural inspections and inspection intervals defined in Airbus A310 Airworthiness Limitations Items Document, AI/SE-M2/95A.0263/06, Issue 6, dated April 2006 (approved by the EASA on May 31, 2006). Accomplish the actions specified in Airbus A310 Airworthiness Limitations Items Document, AI/SE-M2/95A.0263/06, Issue 6, dated April 2006, at the times specified in Airbus A310 Airworthiness Limitations Items Document, AI/SE-M2/95A.0263/06, Issue 6, dated April 2006, except as provided by paragraph (o) of this AD. Thereafter, except as provided by paragraphs (n)(2) and (s) of this AD, no alternative structural inspection intervals may be approved. The actions specified in Airbus A310 Airworthiness Limitations Items Document, AI/SE-M2/95A.0263/06, Issue 6, dated April 2006, must be accomplished in accordance with Airbus A310 Airworthiness Limitations Items Document, AI/SE-M2/95A.0263/06, Issue 6, dated April 2006.

(2) Revise the ALS of the ICA to incorporate the new and revised structural inspections and inspection intervals defined in Airbus TR 6.1, dated November 2006 (approved by the EASA on December 12, 2006), to Airbus A310 Airworthiness Limitations Items Document, AI/SE-M2/95A.0263/06, Issue 6, dated April 2006. Thereafter, except as provided by paragraph (s) of this AD, no alternative structural inspection intervals may be approved.

(o) Retained Exception to Issue 6 of the A310 ALI Document

This paragraph restates the requirements of paragraph (p) of AD 2011-10-17, Amendment 39-16698 (76 FR 27875, May 13, 2011). The tolerance (grace period) for compliance with Airbus A310 Airworthiness Limitations Items Document, AI/SE-M2/95A.0263/06, Issue 6, dated April 2006, is within 1,500 flight cycles after January 14, 2008 (the effective date of AD 2007-25-02, Amendment 39-15283 (72 FR 69612, December 10, 2007)), provided that none of the following is exceeded.

(1) Thresholds or intervals in the operator's current approved maintenance schedule that are taken from a previous ALI issue, if existing, and are higher than or equal to those given in Airbus A310 Airworthiness Limitations Items Document, AI/SE-M2/95A.0263/06, Issue 6, dated April 2006.

(2) 18 months after January 14, 2008 (the effective date of AD 2007-25-02, Amendment 39-15283 (72 FR 69612, December 10, 2007)).

(3) 50 percent of the intervals given in Airbus A310 Airworthiness Limitations Items Document, AI/SE-M2/95A.0263/06, Issue 6, dated April 2006.

(4) Any application tolerance specified in Section D of Airbus A310 Airworthiness Limitations Items Document, AI/SE-M2/95A.0263/06, Issue 6, dated April 2006.

(p) Retained Corrective Actions

This paragraph restates certain requirements of paragraph (q) of AD 2011-10-17, Amendment 39-16698 (76 FR 27875, May 13, 2011). Damaged, cracked, or corroded structure detected during any inspection done in accordance with Airbus A310 Airworthiness Limitations Items Document, AI/SE-M2/95A.0263/06, Issue 6, dated April 2006, must be repaired, before further flight, in accordance with Airbus A310 Airworthiness Limitations Items Document, AI/SE-M2/95A.0263/06, Issue 6, dated April 2006; or in accordance with other data meeting the certification basis of the airplane that has been approved by either the Manager, International Branch, ANM-116, or the EASA (or its delegated agent). Where Airbus A310 Airworthiness Limitations Items Document, AI/SE-M2/95A.0263/06, Issue 6, dated April 2006, specifies to contact Airbus for appropriate action: Before further flight, repair the damaged, cracked, or corroded structure using a method approved by either the Manager, International Branch, ANM-116; or the EASA (or its delegated agent).

(q) Retained Reporting Requirement

This paragraph restates the requirements of paragraph (r) of AD 2011-10-17, Amendment 39-16698 (76 FR 27875, May 13, 2011). If any damage that exceeds the allowable limits specified in Airbus A310 Airworthiness Limitations Items Document, AI/SE-M2/95A.0263/06, Issue 6, dated April 2006, is detected during any inspection required by this AD: At the applicable time specified in paragraph (q)(1) or (q)(2) of this AD, submit a report of the finding to Airbus, Customer Service Directorate, Attn: Department Manager Maintenance Engineering, 1 Rond Point Maurice Bellonte, 31707 Blagnac Cedex, France; email: sched.maint@airbus.com. The report must include the ALI task reference, airplane serial number, the number of flight cycles and flight hours on the airplane, identification of the affected structure, location and description of the finding including its size and orientation, and the circumstance of detection and inspection method used.

(1) If the inspection was done after January 14, 2008 (the effective date of AD 2007-25-02, Amendment 39-15283 (72 FR 69612, December 10, 2007)): Submit the report within 30 days after the inspection.

(2) If the inspection was accomplished prior to January 14, 2008 (the effective date of AD 2007-25-02, Amendment 39-15283 (72 FR 69612, December 10, 2007)): Submit the report within 30 days after January 14, 2008 (the effective date of AD 2007-25-02).

(r) Retained Revision of the ALS of the ICA

This paragraph restates the requirements of paragraph (s) of AD 2011-10-17, Amendment 39-16698 (76 FR 27875, May 13, 2011). Within 3 months after June 17, 2011 (the effective date of AD 2011-10-17): Revise the maintenance program to incorporate the structural inspections and inspection intervals defined in the applicable ALI document listed in table 1 to paragraph (r) of this AD. Thereafter, except as provided by paragraphs (u) and (s) of this AD, no alternative structural inspections and inspection intervals may be approved. The actions must be accomplished in accordance with the applicable issue of the ALI. The initial ALI tasks must be done at the times specified in the applicable ALI document listed in table 1 to paragraph (r) of this AD. Accomplishing the applicable initial ALI tasks constitutes terminating action for the requirements of paragraphs (g) through (q) of this AD for that airplane only. Doing the actions required by paragraph (s) of this AD terminates the requirements of this paragraph.

Table 1 to Paragraph (r) of This AD—Airworthiness Limitations Items Document
Model | Document | Issue | Date
A300 | Airbus A300 Airworthiness Limitation Items Document AI/SE-M2/95A.1308/07 | 4 | June 2008.
A310 | Airbus A310 Airworthiness Limitation Items Document AI/SE-M2/95A.1309/07 | 7 | June 2008.
A300-600 | Airbus A300-600 Airworthiness Limitation Items Document AI/SE-M2/95A.1310/07 | 12 | June 2008.

(s) New Maintenance Program Revision

Within 3 months after the effective date of this AD, do the applicable revision specified in paragraph (s)(1) or (s)(2) of this AD. The initial compliance times for the actions specified in the documents specified in paragraphs (s)(3), (s)(4), and (s)(5) of this AD are at the applicable compliance time specified in the document specified in paragraphs (s)(3), (s)(4), and (s)(5) of this AD, or within 3 months after the effective date of this AD, whichever occurs later; except for actions identified in both documents for the Model A300-600 series airplanes, use the applicable compliance time specified in Airbus TR 13.1, dated February 2011, to the Airbus A300-600 Airworthiness Limitation Items Document AI/SE-M2/95A.1310/07, Issue 13, dated October 2010. Accomplishing the applicable initial actions constitutes terminating action for the requirements of paragraph (r) of this AD for that airplane only.

(1) For Model A310 series airplanes: Within 3 months after the effective date of this AD, revise the maintenance program to incorporate the actions (e.g., modifications and structural inspections) and compliance times defined in Airbus A310 Airworthiness Limitation Items Document AI/SE-M2/95A.1309/07, Issue 8, dated October 2010.

(2) For Model A300-600 series airplanes: Within 3 months after the effective date of this AD, revise the maintenance program to incorporate the structural inspections and inspection intervals defined in Airbus A300-600 Airworthiness Limitation Items Document AI/SE-M2/95A.1310/07, Issue 13.1, dated February 2011.

(3) For Model A310 series airplanes: Airbus A310 Airworthiness Limitation Items Document AI/SE-M2/95A.1309/07, Issue 8, dated October 2010.

(4) For Model A300-600 series airplanes: Airbus A300-600 Airworthiness Limitation Items Document AI/SE-M2/95A.1310/07, Issue 13, dated October 2010.

(5) TR 13.1, dated February 2011, to the Airbus A300-600 Airworthiness Limitation Items Document AI/SE-M2/95A.1310/07, Issue 13, dated October 2010.

(t) New Alternative Inspections and Inspection Intervals Limitation

After accomplishing the revision required by paragraph (s) of this AD, no alternative actions (e.g., inspections) or intervals may be used unless the actions or intervals are approved as an alternative method of compliance (AMOC) in accordance with the procedures specified in paragraph (u) of this AD.

(u) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(v) Related Information

Refer to MCAI EASA Airworthiness Directive 2011-0198, dated October 19, 2011, and the service information specified in paragraphs (v)(1) through (v)(12) of this AD, for related information.

(1) Airbus A300 Airworthiness Limitation Items Document AI/SE-M2/95A.1308/07, Issue 4, dated June 2008.

(2) Airbus A300 Airworthiness Limitation Items Document SEM2/95A.1090/05, Revision 3, dated September 2005.

(3) Airbus A300-600 Airworthiness Limitation Items Document AI/SE-M2/95A.0502/06, Revision 11, dated April 2006.

(4) Airbus A300-600 Airworthiness Limitation Items Document AI/SE-M2/95A.1310/07, Issue 13, dated October 2010.

(5) Airbus A300-600 Airworthiness Limitation Items Document AI/SE-M2/95A.1310/07, Revision 12, dated June 2008.

(6) Airbus A310 Airworthiness Limitation Items Document AI/SE-M2/95A.1309/07, Issue 8, dated October 2010.

(7) Airbus A310 Airworthiness Limitation Items Document AI/SE-M2/95A.1309/07, Revision 7, dated June 2008.

(8) Airbus A310 Airworthiness Limitations Items Document AI/SE-M2/95A.0263/06, Revision 6, dated April 2006.

(9) Airbus Industrie A300 Structural Inspection Document, Revision 2, dated June 1994.

(10) Airbus Temporary Revision 13.1, dated February 2011, to Airbus A300-600 Airworthiness Limitation Items Document AI/SE-M2/95A.1310/07, Revision 13, dated October 2010.

(11) Airbus Temporary Revision 3.1, dated April 2006, including attachment, dated April 2006, and including attachments dated September 2005, to Airbus A300 Airworthiness Limitation Items, Document SEM2/95A.1090/05, Issue 3, dated September 2005.

(12) Airbus Temporary Revision 6.1, including pages 1 and 2 of Section D and page 1 of Section E, dated November 2006, to Airbus A310 Airworthiness Limitations Items Document, AI/SE-M2/95A.0263/06, Issue 6, dated April 2006.

Issued in Renton, Washington, on October 30, 2012.
Ali Bahrami,
Manager, Transport Airplane Directorate, Aircraft Certification Service.

[FR Doc. 2012-27126 Filed 11-6-12; 8:45 am]

BILLING CODE 4910-13-P